DEPARTMENT OF VETERANS AFFAIRS

Fund Availability Under VA Homeless Providers Grant and Per Diem Program; Grants for Services to Women, Frail Elderly, or Terminally Ill Homeless Veterans

AGENCY: Department of Veterans Affairs.

ACTION: Notice of fund availability.

SUMMARY: The Department of Veterans Affairs is announcing the availability of funds for currently operational Homeless Providers Grant and Per Diem Recipients that are providing services at the time of the application to make applications for assistance in the delivery of services to the homeless veteran population of women, including women who have care of minor dependents; frail elderly; or terminally ill. The focus of this Notice of Fund Availability (NOFA) under the special needs grant component of VA's Homeless Providers Grant and Per Diem Program is to encourage applicants to collaborate with VA Health Care Facilities in the delivery of such services. This NOFA contains information concerning the program, application process, and amount of funding available.

DATES: Application deadline. An original completed and collated grant application (plus three completed collated copies) for each special need population and project seeking assistance under this NOFA must be received in the VA Homeless Providers Grant and Per Diem Field Office by 4 p.m. eastern time on August 17, 2004. Applications may not be sent by facsimile (fax), e-mail, or other electronic means. In the interest of fairness to all competing applicants, this deadline is firm as to date and hour, and VA will treat as ineligible for consideration any application that is received after the deadline. Applicants should take this practice into account and make early submission of their material to avoid any risk of loss of eligibility brought about by unanticipated delays or other delivery-related problems.

For a Copy of the Application Package: Download directly from VA's Grant and Per Diem Program Web page at: http://www.va.gov/homeless/page.cfm?pg=3 or call the Grant and Per Diem Program at (toll-free) 1-877-332-0334. For a document relating to the VA Homeless Providers Grant and Per Diem Program, see the regulations at 38 CFR part 61.

Submission of Application: An original completed and collated grant application (plus three copies) for each special need population and project must be submitted to the following address: VA Homeless Providers Grant and Per Diem Field Office, 10770 N. 46th Street, Suite C-100, Tampa, FL 33617. Applications must be received in the Grant and Per Diem Field office by the application deadline. Applications must arrive as a complete package. For those agencies that choose to collaborate with a VA Health Care Facility, the documentation to be provided by the VA collaborative partner for assurance of non-duplication of services through collaboration must be included with the application package (see Funding Priorities). Materials arriving separately will not be included in the application package for consideration and may result in the application being rejected or not funded.

FOR FURTHER INFORMATION CONTACT: Guy Liedke, VA Homeless Providers Grant and Per Diem Program, Department of Veterans Affairs, 10770 N. 46th Street, Suite C-100, Tampa, FL 33617; (toll-free) 1-877-332-0334.

SUPPLEMENTARY INFORMATION: This NOFA announces the availability of funds for assistance under the VA Homeless Providers Grant and Per Diem Program (Program) for eligible operational grant and per diem recipients with and without VA collaborative partners to assist with additional operational costs that would not otherwise be incurred but for the fact that the recipient is providing beds or services in supportive housing or at a service center for the following homeless veteran populations:

Women, including women who have care of minor dependents;

Frail elderly; or

Terminally ill.

Public Law 107-95, the Homeless Veterans Comprehensive Assistance Act of 2001, authorizes this Program. No part of a special needs grant may be used for any purpose that would change significantly the scope of the project for which a capital grant and per diem was awarded. As a part of the review process VA will review the original project listed in the special needs application to ensure significant scope changes do not occur, displacing other homeless veteran populations. VA may reject for special needs funding those applications that significantly alter the original scope (38 CFR 61.62).

Example 1: A provider currently has 50 beds and finds in the course of normal operation that at any given time the project is serving 20 homeless veterans that are frail elderly. This provider could apply for special needs funding to assist in the additional operational costs that are incurred due to providing services to these 20 frail elderly homeless veterans.

Example 2: A provider currently has 50 beds and finds in the course of normal operation that the addition of a staff member would allow the project to serve homeless women veterans that it must currently refer to other sources. This provider could apply for special needs funding to assist in the additional operational costs that are incurred due to development of providing services to homeless women veterans.

Example 3: A provider currently has 50 beds serving the general homeless veteran population and now wants to serve “only women” homeless veterans in the 50 beds. This provider could not apply for special needs funding, as it would significantly alter the scope of the original project.

Example 4: A provider currently has 50 beds and finds in the course of normal operation that at any given time the project is serving 10 homeless frail elderly veterans and 6 homeless women veterans. This provider could apply for special needs funding to assist in the additional operational costs that are incurred due to providing services to both of these populations.

Note: A separate application is needed for each population and the provider would use the same project number on each application.

A separate special needs application is required for each previously funded grant and per diem project, for each special population targeted to be served (see Application Requirements in this NOFA).

Use of Funding: Special Needs funding may not be used for capital improvements or to purchase vans or real property. However, the leasing of vans or real property may be acceptable. Questions regarding acceptability should be directed to VA's Homeless Providers Grant and Per Diem Field Office, at 1-877-332-0334. Applicants may not receive special needs assistance to replace funds provided by any Federal, State, or local government agency or program to assist homeless persons.

Funding applied for under this notice may be used for: the provision of service, operation, or personnel to facilitate the following with regard to the targeted group:

Women, including women who have care of minor dependents:

(1) Ensure transportation for women and their children, especially for health care and educational needs;

(2) Provide directly or offer referrals for adequate and safe child care;

(3) Ensure children's health care needs are met, especially age appropriate wellness visits and immunizations; and

(4) Address safety and security issues including segregation procedures from other program participants if deemed appropriate.

Frail Elderly:

(1) Ensure the safety of the residents in the facility to include preventing harm and exploitation;

(2) Ensure opportunities to keep residents mentally and physically agile to the fullest extent through the incorporation of structured activities, physical activity, and plans for social engagement within the program and in the community;

(3) Provide opportunities for participants to address life-transitional issues and separation and/or loss issues;

(4) Provide access to assistance devices such as walkers, grippers, or other devices necessary for optimal functioning;

(5) Ensure adequate supervision, including supervision of medication and monitoring of medication compliance; and

(6) Provide opportunities for participants either directly or through referral for other services particularly relevant for the frail elderly, including services or programs addressing emotional, social, spiritual, and generative needs.

Terminally Ill:

(1) Help participants address life-transition and life-end issues;

(2) Ensure that participants are afforded timely access to hospice services;

(3) Provide opportunities for participants to engage in “tasks of dying,” or activities of “getting things in order” or other therapeutic actions that help resolve end of life issues and enable transition and closure;

(4) Ensure adequate supervision including supervision of medication and monitoring of medication compliance; and

(5) Provide opportunities for participants either directly or through referral for other services particularly relevant for terminally ill such as legal counsel and pain management.

Note: Successful applicants will be required to designate at least one representative from the organization to attend a post-award conference. The conference will be held in Washington, DC, and is expected to extend over a two-day period. Applicants will be required to cover costs of travel, lodging, and meals associated with their attendance at the post-award conference; however, these costs can be included in budgets submitted for consideration for reimbursement of allowable costs under the grant.

Authority: VA's Homeless Providers Grant and Per Diem Program is authorized by Pub. L. 107-95, the Homeless Veterans Comprehensive Assistance Act of 2001, section 5(a)(1), codified at 38 U.S.C. chapter 20 (38 U.S.C. 2001 through 2066). The program is implemented by regulations at 38 CFR part 61, codifying final rules published in the Federal Register on September 26, 2003 (68 FR 55467), and on June 8, 2004 (69 FR 31883) (revising, effective July 8, 2004, 38 CFR 61.64, Religious organizations). The regulations can be found in their entirety in 38 CFR 61.0 through 61.82. Funds made available under this notice are subject to the requirements of those regulations.

Allocation: Approximately $8.4 million is available for services to assist women, including women who have care of minor dependents; frail elderly; or terminally ill under the special needs grant component of this Program. Funding will be for a period not to exceed 36 months, beginning on January 1, 2005. Based on the amount of funding available the maximum allowable funding to any one operational Grant and Per Diem Special Needs recipient project will be $200,000.00, per year, for three (3) years for a total of $600,000.00. Based on Grant and Per Diem funding availability, approximately $6.3 million is expected to be made available over 3 years (internally) for the VA collaborative partners, if any. Maximum funding for the VA collaborative partners is $150,000.00 per project, per year, for (3) three years, beginning in FY 2005, for a total of $450,000.00 per project. The goal will be to fund 14 collaborative projects.

It is important for interested organizations to know that in addition to the needs associated with the homeless veteran populations targeted in this NOFA, the vast majority of homeless veterans in this country suffer from mental illness or substance abuse disorders or are dually diagnosed with both mental illness and substance abuse disorders. Also, many homeless veterans have serious medical problems. Collaboration with VA medical centers, VA community-based outpatient clinics or other health care providers to address these needs is an important aspect of assuring that homeless veterans have access to appropriate health care services. Opportunities to form collaborations with VA partners may exist in the linking of innovative Women's Heath Care treatment models or Health Care for Homeless Veterans Programs at VA Medical Centers with the provider's use of transitional housing, permanent housing referral, and extended follow-up mechanisms. These linkages may prove to be effective methodologies to deliver collaborative services to these populations and are encouraged. In addition, providers linking with VA Geriatrics and Extended Care Programs at VA Medical Centers may find similar benefits in collaborating their delivery of services to the frail elderly and terminally ill homeless veteran populations.

Public Law 107-95 authorizes grants to be offered to both VA Health Care Facilities and operational Grant and Per Diem Providers to encourage development by those facilities and providers of programs for homeless veterans with special needs (38 U.S.C. 2061). In an effort to prevent non-duplication of services and encourage cost effectiveness, a funding priority will be given to applicants who collaborate their delivery of services to the special need homeless veterans population with their local VA Medical Center (VAMC) or VA Community Based Outpatient Clinic (CBOC), VA Women's Program, Health Care for Homeless Veterans (HCHV) Program, Domiciliary Care for Homeless Veterans (DCHV) Program or other VA specialty programs at a VAMC or VA CBOC that may be instrumental in developing programs to address the special needs of homeless veterans (see Funding Priorities below for specifics).

It is important to be aware that VA places great emphasis on responsibility and accountability. VA has procedures in place to monitor services provided to homeless veterans and outcomes associated with the services provided in grant and per diem-funded programs. Applicants should be aware of the following:

VA per diem payment is limited to the applicant's cost of care per eligible veteran minus other sources of payments to the applicant for furnishing services to homeless veterans up to the per day rate VA pays for State Home Domiciliary care, which is currently $27.19. Additionally, potential applicants should take into consideration the provisions of 38 CFR 61.61(h): “Grant recipients that concurrently receive per diem and special needs payments shall not be paid more than 100 percent of the cost for the bed per day, product, operation, personnel, or service provided.” VA would expect that programs that apply for special needs funding that will serve special needs homeless veterans in less than 20 beds will adjust their request for funding appropriately to be cost effective. Awardees will be required to support their request for per diem and special needs payments with adequate fiscal documentation as to program income and expenses.

All awardees that are conditionally selected in response to this NOFA must meet the Life Safety Code of the National Fire and Protection Association as it relates to their specific facility. VA will conduct an inspection or review the current inspection prior to awardees being able to submit a request for payment, to ensure this requirement is met.

Each special needs grant awardee will have the VA liaison that was appointed for its corresponding grant and per diem program monitor services to ensure the special needs grant is being met.

Monitoring will include at least an annual review of each program's progress toward meeting internal goals and objectives in helping special needs homeless veterans as identified in each applicant's original special needs application. Monitoring will also include a review of the agency's income and expenses as they relate to this project to ensure per diem and special needs payments are accurate.

Each special needs funded program will participate in VA's national program monitoring and evaluation system administered by VA's Northeast Program Evaluation Center (NEPEC). In the event that the special needs funded program has chosen a collaborative partner; participation in the NEPEC program will also include the collaborative partner. NEPEC's monitoring procedures will be used to determine successful accomplishment of the special needs outcomes for each funded program.

VA encourages all eligible faith-based and community organizations that are eligible entities to carefully review this NOFA and consider applying for funds to provide services for special needs homeless veteran populations.

Funding Priorities: VA establishes the following funding priorities in order to: (1) Implement the provisions of Public Law 107-95 regarding non-duplication of service and the mandate to make funding available to both the health care facilities of the Department and Grant and Per Diem Providers; (2) promote collaboration between providers and the Department's health care facilities in the delivery of quality services to special needs populations identified in this NOFA in a cost effective manner, and (3) address geographic dispersion. In this round of special needs funding under this NOFA, VA expects to award approximately $8.4 million to operational Grant and Per Diem applicants to support beds, services, products, operation, or personnel directly serving the special needs homeless veteran populations.

Funding priority 1. Eligible operational grant and per diem recipients that choose to collaborate and provide documentation from a VA collaborative partner as outlined below in the form of a Memorandum of Agreement (MOA) will be grouped in the first funding priority. The goal will be to fund approximately 14 collaborative projects; two (2) in each special needs population for a total of 6. The remaining 8 projects may come from any of the special populations. Not more than two (2) special needs grants will be awarded to the same Grant and Per Diem recipient (defined by tax identification number), and no more than one grant per special needs population will be awarded to the VA collaborative partner (defined by VA medical facility), allowing a total of three (3) regardless of priority. With this criteria, of those eligible entities in the first funding priority, that are legally fundable, the highest scoring applicant will be funded first in each special needs population, followed by the second highest scoring applicant for each special needs population and then by the next highest scoring applicant from any special population until 14 collaborative projects are funded. Using the guidance above, should the goal not be met and if funding is still available, remaining funding will go to the second funding priority. Applicants not funded in the first priority will be placed in the second funding priority.

Documentation is to be provided by the VA collaborative partner in a jointly signed MOA with the applicant agency stating that if funded the VA collaborative partner will provide the services as outlined in the MOA. The MOA must document the non-duplication of services through collaboration and must address the following:

The special population and number to be served;

The extent and level of services that will be provided by the VA collaborative partner;

How these services compliment and not duplicate the services provided by the applicant;

Process and outcome measures clearly delineated and linked to service delivery and responsibilities for collection, compilation, and reporting of these measures;

Approximate cost to provide these services per year, and over the life of the grant; and

The VA collaborative partner will only provide services to eligible veterans.

Funding priority 2. Should funding still be available, eligible operational grant and per diem applicants that choose not to collaborate or are unable to collaborate with VA Health Care Facilities will be grouped in the second funding priority. Not more than two (2) special needs grants will be awarded to the same Grant and Per Diem recipient (defined by tax identification number). Of those eligible entities in the second funding priority, that are legally fundable, the highest scoring applicants regardless of special needs population will be funded first until funding is expended.

Agreement and Funding Actions: Conditionally selected applicants will complete a funding agreement with VA in accordance with 38 CFR 61.61 and provide any additional information as required by VA under 38 CFR part 61. Upon signature by the Secretary or designated representative final selection will be completed.

Funding for operational grant and per diem applicants that are finally selected will be for a period not to exceed 36 months beginning on January 1, 2005. VA collaborative partners of finally selected applicants will be funded in accordance with Department internal fiscal guidance for a period of 36 months beginning on January 1, 2005. Should either of the collaborative partners not provide services as outlined in their application and MOA, VA may deobligate or discontinue payments for special needs grants to one or both collaborative partners.

A condition to obtain the special needs grant is for the applicant to maintain the original (Grant or Per Diem) program for which the special needs grant is sought. This is not an issue for eligible capital grantees. However, it is possible that some of the eligible “Per Diem Only” applicant programs would have their original award expire prior to fully utilizing the special needs funding. This is counterproductive to the intent of the special need grant. Therefore, if finally selected, “Per Diem Only” applicants will be considered to have met the reapplication requirements of 38 CFR 61.33(b) and their corresponding Per Diem Only award will be extended to run concurrently with their special needs grant. Example: A “Per Diem Only” award funded in 2003 would expire in 2006. Based on the funding availability date of January 1, 2005, if selected under this special need NOFA that corresponding PDO award would be extended to December 31, 2007.

Application Requirements: A separate application is needed for each project number and special needs population for which you are requesting special need funding. Example: If your operational grant project serves both frail elderly and women, a separate application is needed for each population and you would use the same project number on each application. A project number is the last two digits of the year funded, the sequence the application was received, and the state abbreviation for the project location (e.g., 00-125-MA would have been funded in the year 2000, the 125th application received, and the project is located in Massachusetts). If you do not know your project number call the VA Homeless Providers Grant and Per Diem Field Office (toll-free) at 1-877-332-0334.

The grant application requirements are specified in the application package and this NOFA. The package includes the applicant's required forms and certifications. Additional collaborative documentation as outlined in this NOFA is needed if the applicant chooses to collaborate with a VA health care facility. Selections will be made based on criteria described in the application and this NOFA. Applicants who are selected will be notified of any additional information needed to confirm or clarify information provided in the application. Applicants will then be notified of the deadline to submit such information. If an applicant is unable to meet any conditions for grant award within the specified time frame, VA reserves the right to not award funds and to use the funds available for other grant and per diem applicants.

Dated: July 8, 2004.
Anthony J. Principi,
Secretary of Veterans Affairs.

[FR Doc. 04-15966 Filed 7-13-04; 8:45 am]

BILLING CODE 8320-01-P